DEPARTMENT OF THE INTERIOR

Fish and Wildlife Service

Availability of Comprehensive Conservation Plan and Summary of the Comprehensive Conservation Plan for Ouray National Wildlife Refuge, Vernal, UT

AGENCY: Fish and Wildlife Service, Interior.

ACTION: Notice of availability.

SUMMARY: Pursuant to the Refuge Improvement Act of 1997, the U.S. Fish and Wildlife Service has published the Ouray National Wildlife Refuge Comprehensive Conservation Plan and Summary of the Comprehensive Conservation Plan. These documents describe how the FWS intends to manage the Ouray NWR for the next 10-15 years.

ADDRESSES: A copy of the Plan or Summary may be obtained by writing to U.S. Fish and Wildlife Service, HC 69, Box 232, Randlett, UT 84063-9729. The Plan can also be downloaded from http://www. r6.fws.gov/larp/.

FOR FURTHER INFORMATION CONTACT: Allison Banks, U.S. Fish and Wildlife Service, P.O. Box 25486 DFC, Denver, CO 80225, 303/236-8145 extension 626; fax 303/236-4792.

SUPPLEMENTARY INFORMATION: Ouray NWR is located in northeast Utah. Implementation of the Plan will focus on adaptive resource management of wetland, grassland, and semidesert shrubland habitats, restoration and improved management of riparian bottomlands, recovery of endangered fish species of the Upper Colorado River Ecosystem, and opportunities for compatible wildlife-dependent recreation. Habitat monitoring and evaluation will be emphasized as the Plan is implemented. Opportunities for wildlife-dependent recreation will continue to be provided.

Dated: October 4, 2000.
Ralph O. Morgenweck,
Regional Director, Denver, Colorado.

[FR Doc. 00-26003 Filed 10-10-00; 8:45 am]

BILLING CODE 4310-55-M